DEPARTMENT OF AGRICULTURE

Animal and Plant Health Inspection Service

[Docket No. APHIS-2012-0005]

Notice of Decision To Authorize the Importation of Litchi, Longan, and Rambutan From the Philippines Into the Continental United States

AGENCY: Animal and Plant Health Inspection Service, USDA.

ACTION: Notice.

SUMMARY: We are advising the public of our decision to authorize the importation into the continental United States of fresh litchi, longan, and rambutan fruit from the Philippines. Based on the findings of a pest risk analysis, which we made available to the public for review and comment through a previous notice, we believe that the application of one or more designated phytosanitary measures will be sufficient to mitigate the risks of introducing or disseminating plant pests or noxious weeds via the importation of fresh fruit of litchi, longan, and rambutan from the Philippines.

DATES: Effective Date: February 7, 2013.

FOR FURTHER INFORMATION CONTACT: Ms. Claudia Ferguson, Regulatory Policy Specialist, Regulations, Permits, and Manuals, PPQ, APHIS, 4700 River Road Unit 133, Riverdale, MD 20737-1236; (301) 851-2352.

SUPPLEMENTARY INFORMATION:

Background

Under the regulations in “Subpart—Fruits and Vegetables” (7 CFR 319.56-1 through 319.56-57, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis (PRA), can be safely imported subject to one or more of the designated phytosanitary measures listed in paragraph (b) of that section. Under that process, APHIS publishes a notice in the Federal Register announcing the availability of the PRA that evaluates the risks associated with the importation of a particular fruit or vegetable. Following the close of the 60-day comment period, APHIS may authorize the importation of the fruit or vegetable subject to the identified designated measures if: (1) No comments were received on the PRA; (2) the comments on the PRA revealed that no changes to the PRA were necessary; or (3) changes to the PRA were made in response to public comments, but the changes did not affect the overall conclusions of the analysis and the Administrator's determination of risk.

In accordance with that process, we published a notice ¹ in the Federal Register on March 6, 2012 (77 FR 13260-13261, Docket No. APHIS-2012-0005), in which we announced the availability, for review and comment, of a PRA that evaluates the risks associated with the importation into the continental United States of fresh litchi, longan, and rambutan fruit from the Philippines. We solicited comments on the notice for 60 days ending on May 7, 2012. We did not receive any comments by that date.

¹ To view the notice and the PRA, go to http://www.regulations.gov/#!docketDetail;D=APHIS-2012-0005.

Therefore, in accordance with the regulations in § 319.56-4(c)(2)(ii), we are announcing our decision to authorize the importation into the continental United States of fresh litchi, longan, and rambutan fruit from the Philippines subject to the following phytosanitary measures:

• The fresh fruit of litchi, longan, and rambutan may be imported into the continental United States in commercial consignments only;

• The fresh fruit of litchi, longan, and rambutan must be irradiated in accordance with 7 CFR part 305 with a minimum absorbed dose of 400 Gy;

• If the irradiation treatment is applied outside the United States, each consignment of fresh fruit of litchi, longan, and rambutan must be jointly inspected by APHIS and the national plant protection organization (NPPO) of the Philippines and accompanied by a phytosanitary certificate attesting that the fruit received the required irradiation treatment. In the case of fresh rambutan fruit, the phytosanitary certificate must also include an additional declaration stating that the consignment was inspected and found free of the powdery mildew Oidium nephelii;

• If irradiation is applied upon arrival in the United States, each consignment of fresh fruit of litchi, longan, and rambutan must be inspected by the NPPO of the Philippines prior to departure. In the case of fresh rambutan fruit, the phytosanitary certificate must also include an additional declaration stating that the consignment was inspected and found free of the powdery mildew Oidium nephelii; and

• The fresh fruit of litchi, longan, and rambutan are subject to inspection upon arrival at the U.S. port of entry.

These conditions will be listed in the Fruits and Vegetables Import Requirements database (available at http://www.aphis.usda.gov/favir). In addition to these specific measures, fresh litchi, longan, and rambutan fruit from the Philippines will be subject to the general requirements listed in § 319.56-3 that are applicable to the importation of all fruits and vegetables. Further, for fruits and vegetables requiring treatment as a condition of entry, the phytosanitary treatments regulations in 7 CFR part 305 contain administrative and procedural requirements that must be observed in connection with the application and certification of specific treatments.

Authority: 7 U.S.C. 450, 7701-7772, and 7781-7786; 21 U.S.C. 136 and 136a; 7 CFR 2.22, 2.80, and 371.3.

Done in Washington, DC, this 4th day of February 2013.
Kevin Shea,
Acting Administrator, Animal and Plant Health Inspection Service.

[FR Doc. 2013-02776 Filed 2-6-13; 8:45 am]

BILLING CODE 3410-34-P